DEPARTMENT OF TRANSPORTATION

Federal Aviation Administration

14 CFR Part 71

[Docket No. FAA-2003-15529; Airspace Docket No. 03-ANM-03]

RIN 2120-AA66

Proposed Establishment of VOR Federal Airway 584; MT

AGENCY: Federal Aviation Administration (FAA), DOT.

ACTION: Proposed rule; withdrawal.

SUMMARY: This action withdraws a notice proposing to establish Federal Airway 584 (V-584) between the Helena, MT, Very High Frequency Omnidirectional Radio Range and Tactical Air Navigation Aid (VORTAC), and the Missoula, MT, VORTAC (68 FR 51737, August 28, 2003). With the decommissioning of the Drummond Very High Frequency Omnidirectional Range (VOR) in January 2004 there is no longer a requirement for the proposed V-584. Several airways in the state of Montana will be revised in a subsequent NPRM.

FOR FURTHER INFORMATION CONTACT: Ken McElroy, Airspace and Rules, Office of System Operations and Safety, Federal Aviation Administration, 800 Independence Avenue, SW., Washington, DC 20591; telephone: (202) 267-8783.

SUPPLEMENTARY INFORMATION: On August 28, 2003, a notice was published in the Federal Register proposing to amend 14 Code of Federal Regulations (14 CFR) part 71 (part 71) to establish V-584 between the Helena, MT, VORTAC, and the Missoula, MT, VORTAC. With the decommissioning of the Drummond VOR in January 2004 there is no longer a requirement for the proposed V-584. Several airways in the state of Montana will be revised in a subsequent NPRM.

List of Subjects in 14 CFR part 71

Airspace, Incorporation by reference, Navigation (air).

The Withdrawal

In consideration of the foregoing, the Notice of Proposed Rulemaking, FAA Docket No. FAA-2003-15529/Airspace Docket No. 03-ANM-03, as published in the Federal Register on August 28, 2003 (68 FR 51737), is hereby withdrawn.

Authority: 49 U.S.C. 106(g), 40103, 40113, 40120; E.O. 10854; 24 FR 9565, 3 CFR, 1959-1963 Comp., p. 389.

Issued in Washington, DC, on August 27, 2004.
Reginald C. Matthews,
Manager, Airspace and Rules.

[FR Doc. 04-20171 Filed 9-2-04; 8:45 am]

BILLING CODE 4910-13-P